DEPARTMENT OF TRANSPORTATION

Federal Aviation Administration

14 CFR Part 39

[Docket No. 99-CE-73-AD; Amendment 39-12006; AD 2000-23-33]

RIN 2120-AA64

Airworthiness Directives; British Aerospace HP137 Mk1 and Jetstream Series 200 Airplanes

AGENCY: Federal Aviation Administration, DOT.

ACTION: Final rule.

SUMMARY: This amendment adopts a new airworthiness directive (AD) that applies to all British Aerospace HP137 Mk1 and Jetstream series 200 airplanes. This AD requires you to inspect the vertical stabilizer skin for disbonding, corrosion, cracks, and loose rivets, and repair any vertical stabilizer skin where discrepancies are found. This AD is the result of mandatory continuing airworthiness information (MCAI) issued by the airworthiness authority for the United Kingdom. The actions specified by this AD are intended to prevent failure of the vertical stabilizer caused by disbonding, corrosion, cracks, or loose rivets in the stabilizer skin. Such failure could lead to aircraft controllability problems.

DATES: This AD becomes effective on January 12, 2001.

The Director of the Federal Register approved the incorporation by reference of certain publications listed in the regulations as of January 12, 2001.

ADDRESSES: You may get the service information referenced in this AD from British Aerospace Regional Aircraft, Prestwick International Airport, Ayrshire, KA9 2RW, Scotland; telephone: (01292) 479888; facsimile: (01292) 479703. You may examine this information at the Federal Aviation Administration (FAA), Central Region, Office of the Regional Counsel, Attention: Rules Docket No. 99-CE-73-AD, 901 Locust, Room 506, Kansas City, Missouri 64106; or at the Office of the Federal Register, 800 North Capitol Street, NW., suite 700, Washington, DC.

FOR FURTHER INFORMATION CONTACT: Doug Rudolph, Aerospace Engineer, FAA, Small Airplane Directorate, 901 Locust, Room 301, Kansas City, Missouri 64106; telephone: (816) 329-4059; facsimile: (816) 329-4090.

SUPPLEMENTARY INFORMATION:

Discussion

What Events Have Caused This AD?

The Civil Aviation Authority (CAA), which is the airworthiness authority for the United Kingdom, recently notified the FAA that an unsafe condition may exist on all British Aerospace HP137 Mk1 and Jetstream series 200 airplanes. The CAA reports instances of delamination and corrosion of the vertical stabilizer skin. Such damage resulted in cracks around the rivet holes.

What Are the Consequences If the Condition Is Not Corrected?

If not detected and corrected, a damaged vertical stabilizer skin could lead to failure of the vertical stabilizer with consequent airplane controllability problems.

Has FAA Taken Any Action to This Point?

We issued a proposal to amend part 39 of the Federal Aviation Regulations (14 CFR part 39) to include an AD that would apply to all British Aerospace HP137 Mk1 and Jetstream series 200 airplanes. This proposal was published in the Federal Register as a notice of proposed rulemaking (NPRM) on September 26, 2000 (65 FR 57748). The NPRM proposed to require you to inspect the vertical stabilizer skin for disbonding, corrosion, cracks, and loose rivets, and repair any vertical stabilizer skin where discrepancies are found.

Was the Public Invited To Comment?

Interested persons were afforded an opportunity to participate in the making of this amendment. No comments were received on the proposed rule or the FAA's determination of the cost to the public.

The FAA's Determination

What Is FAA's Final Determination on This Issue?

After careful review of all available information related to the subject presented above, we have determined that air safety and the public interest require the adoption of the rule as proposed except for minor editorial corrections. We determined that these minor corrections:

—Will not change the meaning of the AD; and

—wWll not add any additional burden upon the public than was already proposed.

Cost Impact

How Many Airplanes Does This AD Impact?

We estimate that this AD affects 85 airplanes in the U.S. registry.

What Is the Cost Impact of This AD on Owners/Operators of the Affected Airplanes?

We estimate the following costs to accomplish the inspection:

Labor cost | Parts cost | Total cost per airplane | Total cost on U.S. airplane operators
5 workhours × $60 per hour = $300 | No parts required for the inspection | $300 per airplane | $300 × 85 = $25,500.

Regulatory Impact

Does This AD Impact Various Entities?

The regulations adopted herein will not have a substantial direct effect on the States, on the relationship between the national government and the States, or on the distribution of power and responsibilities among the various levels of government. Therefore, it is determined that this final rule does not have federalism implications under Executive Order 13132.

Does This AD Involve a Significant Rule or Regulatory Action?

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2000-23-33 British Aerospace: Amendment 39-12006; Docket No. 99-CE-73-AD.

(a) What airplanes are affected by this AD? This AD affects HP137 Mk1 and Jetstream series 200 airplanes, all serial numbers, that are certificated in any category.

(b) Who must comply with this AD? Anyone who wishes to operate any of the above airplanes must comply with this AD.

(c) What problem does this AD address? The actions specified by this AD are intended to prevent failure of the vertical stabilizer caused by disbonding, corrosion, cracks, or loose rivets in the stabilizer skin. Such failure could lead to aircraft controllability problems.

(d) What actions must I accomplish to address this problem? To address this problem, you must accomplish the following:

Action | Compliance time | Procedures
(1) Inspect the right and left hand side of the vertical stabilizer skin for disbonding, corrosion, cracks, and loose rivets | Within the next 60 calendar days after January 12, 2001 (the effective date of this AD) | In accordance with the ACCOMPLISHMENT INSTRUCTIONS section of British Aerospace Jetstream Alter Service Bulletin 55-A-JA-990640, Issued: September 1, 1999.
(2) Repair any vertical stabilizer skin where a discrepancy is found | Prior to further flight after the inspection | Use the procedures in the maintenance manual if the discrepancies are within the limits specified in the maintenance manual. Use an FAA-approved repair scheme obtained from British Aerospace at the address specified in paragraph (h) of this AD if the discrepancies are outside the limits specified in the maintenance manual.

Note 1: British Aerospace Jetstream Alert Service Bulletin 55-A-JA-990640, Issued: September 1, 1999, specifies reporting the results of the inspections to British Aerospace Regional Aircraft. The FAA highly recommends that each owner/operator submit this information. British Aerospace and the British CAA will use this information to determine whether repetitive inspections are necessary, and, if so, at what intervals. The FAA will evaluate the information from the British CAA and may initiate further rulemaking action to propose a repetitive inspection requirement.

(e) Can I comply with this AD in any other way? You may use an alternative method of compliance or adjust the compliance time if:

(1) Your alternative method of compliance provides an equivalent level of safety; and

(2) The Manager, Small Airplane Directorate, approves your alternative. Submit your request through an FAA Principal Maintenance Inspector, who may add comments and then send it to the Manager, Small Airplane Directorate.

Note 2: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Doug Rudolph, Aerospace Engineer, FAA, Small Airplane Directorate, 901 Locust, Room 301, Kansas City, Missouri 64106; telephone: (816) 329-4059; facsimile: (816) 329-4090.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? Actions required by this AD must be done in accordance with British Aerospace Jetstream Alert Service Bulletin 55-A-JA-990640, Issued: September 1, 1999. The Director of the Federal Register approved this incorporation by reference under 5 U.S.C. 552(a) and 1 CFR part 51. You can get copies from British Aerospace Regional Aircraft, Prestwick International Airport, Ayrshire, KA9 2RW, Scotland. You can look at copies at the FAA, Central Region, Office of the Regional Counsel, 901 Locust, Room 506, Kansas City, Missouri, or at the Office of the Federal Register, 800 North Capitol Street, NW, suite 700, Washington, DC.

(i) When does this amendment become effective? This amendment becomes effective on January 12, 2001.

Note 3: The subject of this AD is addressed in British Aerospace Jetstream Alert Service Bulletin 55-A-JA-990640, Issued: September 1, 1999. This service bulletin is classified as mandatory by the United Kingdom Civil Aviation Authority (CAA).

Issued in Kansas City, Missouri, on November 14, 2000.
James E. Jackson,
Acting Manager, Small Airplane Directorate, Aircraft Certification Service.

[FR Doc. 00-29938 Filed 11-29-00; 8:45 am]

BILLING CODE 4910-13-P